DEPARTMENT OF TRANSPORTATION

Federal Aviation Administration

14 CFR Part 1, 23, 25, 27, 29, 61, 91, 121, 125, 135

[Docket No. FAA-2013-0485; Notice No. 12-09B]

RIN 2120-AJ94

Revisions to Operational Requirements for the Use of Enhanced Flight Vision Systems (EFVS) and to Pilot Compartment View Requirements for Vision Systems; Reopening of Comment Period

AGENCY: Federal Aviation Administration (FAA), DOT.

ACTION: Notice of proposed rulemaking; reopening of comment period.

SUMMARY: This action reopens the comment period for the regulatory evaluation associated with the FAA's June 11, 2013 Notice of Proposed Rulemaking (NPRM), Revisions to Operational Requirements for the Use of Enhanced Flight Vision Systems (EFVS) and to Pilot Compartment View Requirements for Vision Systems. The regulatory evaluation associated with the NPRM was not posted to the docket prior to the close of the comment period. Therefore, the FAA is reopening the comment period to allow the public the opportunity to adequately analyze the full regulatory evaluation for the NPRM. The FAA will accept comments on the regulatory evaluation only; and not on the regulatory changes proposed in the NPRM.

DATES: The comment period for the NPRM published on June 11, 2013 (78 FR 34935) closed October 15, 2013, and is reopened until September 21, 2015.

ADDRESSES: You may send comments on the posted regulatory evaluation identified by docket number FAA-2013-0485 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: Valentine Castaneda, ARM-104, Office of Rulemaking, Federal Aviation Administration, 800 Independence Avenue SW., Washington, DC 20591, telephone (202) 267-7977; email val.castaneda@faa.gov.

SUPPLEMENTARY INFORMATION: See the “Additional Information” section for information on how to comment on this action and how the FAA will handle comments received. The “Additional Information” section also contains related information about the docket, privacy, and the handling of proprietary or confidential business information. In addition, there is information on obtaining copies of related rulemaking documents.

Background

On June 11, 2013, the FAA issued Notice No. 1209, entitled “Revisions to Operational Requirements for the Use of Enhanced Flight Vision Systems (EFVS) and to Pilot Compartment View Requirements for Vision Systems,” 78 FR 34935. The FAA requested that comments on that proposal be received on or before September 9, 2013.

Dassault Aviation submitted a request to extend the comment period from September 9, 2013 to October 15, 2013 to allow adequate time to analyze and provide comments on the NPRM, draft AC 90-106A, and draft AC 20-167A, all of which are directly related to the proposed rule. On September 6, 2013, the FAA published a notice in the Federal Register extending the NPRM comment period to October 15, 2013 to coincide with the close of the comment period for draft AC 90-106A and draft AC 20-167A. 78 FR 54790.

The regulatory evaluation associated with the NPRM was not posted to the docket prior to the close of the comment period. Therefore, to ensure that the public has the opportunity to provide comments specifically on the regulatory evaluation posted in the docket (FAA-2013-0485), the FAA is reopening the comment period for 30 days to allow for comments on the regulatory evaluation only. The FAA will not address comments on the NPRM because the comment period for the NPRM closed on October 15, 2013.

Accordingly, the comment period for Notice No. 12-09 is reopened until September 21, 2015.

Additional Information

A. Comments Invited

The FAA invites interested persons to participate in this rulemaking by submitting written comments, data or views. The most helpful comments reference a specific portion of the regulatory evaluation, explain the reasons for any recommended change, and include supporting data. To ensure the docket does not contain duplicate comments, commenters should send only one copy of written comments, or if comments are filed electronically, commenters should submit only one time.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The agency may change this proposal in light of the comments it receives.

B. Availability of Rulemaking Documents

An electronic copy of rulemaking documents may be obtained from the Internet by—

1. Searching the Federal eRulemaking Portal (http://www.regulations.gov);

2. Visiting the FAA's Regulations and Policies Web page at http://www.faa.gov/regulations_policies or

3. Accessing the Government Publishing Office's Web page at http://www.gpo.gov/fdsys/.

Copies may also be obtained by sending a request to the Federal Aviation Administration, Office of Rulemaking, ARM-1, 800 Independence Avenue SW., Washington, DC 20591, or by calling (202) 267-9677. Commenters must identify the docket or notice number of this rulemaking.

All documents the FAA considered in developing this proposed rule, including economic analyses and technical reports, may be accessed from the Internet through the Federal eRulemaking Portal referenced in item (1) above.

Issued in Washington, DC, on August 14, 2015.
Lirio Liu,
Director, Office of Rulemaking.

[FR Doc. 2015-20555 Filed 8-19-15; 8:45 am]

BILLING CODE 4910-13-P